FEDERAL MINE SAFETY AND HEALTH REVIEW COMMISSION

Sunshine Act Meetings

FEDERAL REGISTER CITATION OF PREVIOUS ANNOUNCEMENT: 91 FR 1789, January 15, 2026.

PREVIOUSLY ANNOUNCED TIME AND DATE OF THE MEETING: Meeting was originally scheduled for 10 a.m., on Thursday, February 5, 2026.

CHANGES IN THE MEETING: The meeting is cancelled and will be rescheduled.

CONTACT PERSON FOR MORE INFORMATION: Rory P. Smith (202) 525-8649/(202) 708-9300 for TDD Relay/1-800-877-8339 for toll free.

Authority: 5 U.S.C. 552b.

Dated: February 4, 2026.
Rory P. Smith,
Attorney-Advisor.

[FR Doc. 2026-02356 Filed 2-4-26; 11:15 am]

BILLING CODE 6735-01-P